SMALL BUSINESS ADMINISTRATION

Region VII Regulatory Fairness Board; Public Federal Regulatory Enforcement Fairness Hearing

The Small Business Administration Region VII Regulatory Fairness Board and the SBA Office of the National Ombudsman will hold a Public Hearing on Wednesday, April 14, 2004, at 8:30 a.m. at the Center for Emerging Technologies, 4041 Forest Park Avenue, St. Louis, MO 63108, to receive comments and testimony from small business owners, small government entities, and small non-profit organizations concerning regulatory enforcement and compliance actions taken by federal agencies.

Anyone wishing to attend or to make a presentation must contact Rose E. Garland in writing or by fax, in order to be put on the agenda. Rose Garland, Economic Development Specialist, St. Louis District Office, 200 North Broadway, Suite 1500, St. Louis, MO 63102, phone (314) 539-6600 ext. 232, fax (314) 539-3785, e-mail: rose.garland@sba.gov.

For more information, see our Web site at http://www.sba.gov/ombudsman.

Dated: March 22, 2004.
Peter Sorum,
Senior Advisor, Office of the National Ombudsman.

[FR Doc. 04-6855 Filed 3-25-04; 8:45 am]

BILLING CODE 8025-01-P